DEPARTMENT OF ENERGY

Federal Energy Regulatory Commission

[Docket No. PR00-15-000]

Overland Trail Transmission Company; Notice of Petition for Rate Approval

March 17, 2000.

Take notice that on March 14, 2000, Overland Trail Transmission Company (OTTCO) filed pursuant to Section 284.123(b)(2) of the Commission's regulations, a petition for rate approval requesting that the Commission approve as fair and equitable a maximum system wide rate of $0.3948 per MMBtu for interruptible transportation services performed under Section 311(a)(2) of the Natural Gas Policy Act of 1978 (NGP).

OTTCO states that it is an intrastate natural gas pipeline within the meaning of Section 2(16) of the NGPA, which operates wholly within the State of Wyoming.

Pursuant to Section 284.123(b)(2)(ii), if the Commission does not act within 150 days of the filing date, the proposed rate for transportation services will be deemed to be fair and equitable, The Commission may, prior to the expiration of the 150 day period, extend the time for action or institute a proceeding to afford parties an opportunity for written comments and for the oral presentations of views, data and arguments.

Any person desiring to participate in this rate proceeding must file a motion to intervene or protest with the Federal Energy Regulatory Commission, 888 First Street NE., Washington, DC 20426, in accordance with rules 211 and 214 of the Commission's Rules of Practice and Procedure (18 CFR 385.211 and 385.214). All motions must be filed with the Secretary of the Commission on or before April 3, 2000. This petition for rate approval is on file with the Commission and is available for public inspection. This filing may be viewed on the web at http://www.ferc.fed.us/online/rims.htm (call 202-208-2222 for assistance).

David P. Boergers,
Secretary.

[FR Doc. 00-7155 Filed 3-22-00; 8:45 am]

BILLING CODE 6717-01-M